DEPARTMENT OF COMMERCE

National Oceanic and Atmospheric Administration

50 CFR Part 622

[Docket No. 230706-0161]

RIN 0648-BM27

Fisheries of the Caribbean, Gulf of Mexico, and South Atlantic; Snapper-Grouper Fishery of the South Atlantic; Amendment 53

AGENCY: National Marine Fisheries Service (NMFS), National Oceanic and Atmospheric Administration (NOAA), Commerce.

ACTION: Proposed rule; request for comments.

SUMMARY: NMFS proposes regulations to implement Amendment 53 to the Fishery Management Plan for the Snapper-Grouper Fishery of the South Atlantic (FMP), as prepared and submitted by the South Atlantic Fishery Management Council (Council). For gag, this proposed rule would revise the sector annual catch limits (ACLs), commercial trip limits, recreational bag, vessel, and possession limits, and recreational accountability measures (AMs). For black grouper, this proposed rule would revise the recreational bag, vessel, and possession limits. In addition, Amendment 53 would establish a rebuilding plan, and revise the overfishing levels, acceptable biological catch (ABC), annual optimum yield (OY), and sector allocations for gag. The purpose of this proposed rule and Amendment 53 is to end overfishing of gag, rebuild the stock, and achieve OY while minimizing, to the extent practicable, adverse social and economic effects.

DATES: Written comments must be received on or before August 14, 2023.

ADDRESSES: You may submit comments on the proposed rule, identified by “NOAA-NMFS-2023-0045,” by either of the following methods:

• Electronic Submission: Submit all electronic public comments via the Federal e-Rulemaking Portal. Go to https://www.regulations.gov and enter “NOAA-NMFS-2023-0045”, in the Search box. Click the “Comment” icon, complete the required fields, and enter or attach your comments.

• Mail: Submit written comments to Frank Helies, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 53, which includes a fishery impact statement and a regulatory impact review, may be obtained from the Southeast Regional Office website at https://www.fisheries.noaa.gov/action/amendment-53-rebuilding-plan-gag-and-management-gag-and-black-grouper/.

FOR FURTHER INFORMATION CONTACT: Frank Helies, telephone: 727-824-5305, or email: frank.helies@noaa.gov.

SUPPLEMENTARY INFORMATION: The South Atlantic snapper-grouper fishery, which includes gag and black grouper, is managed under the FMP. The FMP was prepared by the Council and implemented through regulations at 50 CFR part 622 under the authority of the Magnuson-Stevens Fishery Conservation and Management Act (Magnuson-Stevens Act).

Background

The Magnuson-Stevens Act requires that NMFS and regional fishery management councils prevent overfishing and achieve, on a continuing basis, the OY from federally managed fish stocks. These mandates are intended to ensure that fishery resources are managed for the greatest overall benefit to the Nation, particularly with respect to providing food production and recreational opportunities, and protecting marine ecosystems. To further this goal, the Magnuson-Stevens Act requires fishery managers to minimize bycatch and bycatch mortality to the extent practicable.

All weights described in this proposed rule are in gutted weight, unless otherwise specified.

In 2006, the gag stock was assessed through the Southeast Data, Assessment, and Review (SEDAR) process as a benchmark assessment (SEDAR 10). The assessment indicated that the gag stock was not overfished but was undergoing overfishing. The Council and NMFS implemented management measures, including implementing a spawning season closure to end overfishing through the final rule for Amendment 16 to the FMP (74 FR 30964, July 29, 2009).

In 2014, the gag stock was assessed again through the SEDAR 10 Update as a standard assessment. The assessment indicated that the gag stock was not overfished but was still experiencing overfishing. However, the Council's Scientific and Statistical Committee (SSC) noted that the fishing mortality rate for 2012, and the projected fishing mortality rate in 2013, based on the actual landings, suggested that overfishing did not occur in 2012 and 2013. Consequently, NMFS determined that the gag stock was not undergoing overfishing. In response to the SEDAR 10 Update, the Council and NMFS modified the ACLs and management measures through the final rule for Regulatory Amendment 22 to the FMP (80 FR 48277, August 12, 2015).

Amendment 53 responds to the most recent stock assessment for South Atlantic gag (SEDAR 71 2021). The Council's SSC reviewed the gag stock assessment (SEDAR 71 2021) at their June 2021 meeting. The assessment followed a standard approach using data through 2019, and incorporated the revised estimates for recreational catch from the Marine Recreational Information Program (MRIP) Fishing Effort Survey (FES). The findings of the assessment indicated that the South Atlantic gag stock is overfished and undergoing overfishing. The SSC found that the assessment was conducted using the best scientific information available, was adequate for determining stock status and supporting total fishing level recommendations. NMFS notified the Council of the updated status of the gag stock via letter dated July 23, 2021.

Following a notification from NMFS to a Council that a stock is undergoing overfishing and is overfished, the Magnuson-Stevens Act requires the Council to develop an FMP amendment with actions that immediately end overfishing and rebuild the affected stock. The Council developed Amendment 53 to respond to the results of SEDAR 71.

The Council requested several different rebuilding projections for the gag stock including a 50 percent and a 70 percent probability of rebuilding under recent low recruitment and longer-term modeled recruitment scenarios. The SSC recommended ABC values based on a 70 percent probability of rebuilding in 10 years and recruitment based on the long-term recruitment scenario from SEDAR 71. However, in March 2023, the NMFS Southeast Fisheries Science Center advised the Council that unless gag discards were reduced in similar proportion to the reduction in landings, the probability of rebuilding would be below the expected 70 percent probability of rebuilding but still be above 50 percent, as required under the Magnuson-Stevens Act. The Council accepted the SSC's recommended ABC values, as discussed below.

In Amendment 53, the Council would also revise the overfishing limit (OFL) for gag, and update other biological reference points. Amendment 53 would set the OFL to 367,235 lb (166,575 kg), for 2023; 494,338 lb (224,228 kg), for 2024; 605,227 lb (274,526 kg), for 2025; 706,366 lb (320,402 kg), for 2026; 808,266 lb (366,623 kg), for 2027; 912,033 lb (413,691 kg), for 2028; 1,011,133 lb (458,642 kg), for 2029; 1,098,379 lb (498,216 kg), for 2030; 1,171,120 lb (531,211 kg), for 2031; and 1,230,363 lb (558,083 kg), for 2032 and subsequent fishing years.

The Council intends that Amendment 53 would end overfishing of South Atlantic gag, rebuild the stock, and achieve OY while minimizing, to the extent practicable, adverse social and economic effects.

Management Measures Contained in This Proposed Rule

This proposed rule would revise the sector ACLs, commercial trip limits, recreational bag, vessel, and possession limits, and recreational AMs for gag. Because gag and black grouper are often misidentified by recreational fishermen, this proposed rule would also address recreational vessel limits and a prohibition on captain and crew bag limit retention for black grouper.

Total ACLs

Through the final rule for Regulatory Amendment 22 to the FMP, the current total ACL and annual OY were set at 734,350 lb (333,095 kg), which is 95 percent of the current ABC (80 FR 48277, August 12, 2015). In Amendment 53, the Council would revise the ABC based on SEDAR 71 and the recommendation of the SSC, and set the ABC, ACL, and annual OY equal to each other.

This proposed rule would revise the total ACL (and the annual OY) equal to the recommended ABC of 175,632 lb (79,665 kg), for 2023; 261,171 lb (118,465 kg), for 2024; 348,352 lb (158,010 kg), for 2025; 435,081 lb (197,349 kg), for 2026; 524,625 lb (237,966 kg), for 2027; 617,778 lb (280,219 kg), for 2028; 711,419 lb (322,694 kg), for 2029; 800,088 lb (362,914 kg), for 2030; 879,758 lb (399,052 kg), for 2031; and 948,911 lb (430,419 kg), for 2032 and subsequent fishing years.

Sector Allocations and ACLs

Amendment 53 would revise the commercial and recreational allocations for gag. The current sector ACLs for gag are based on the commercial and recreational allocations of the total ACL at 51 percent and 49 percent, respectively, that were established through Amendment 16 to the FMP (74 FR 30964, July 29, 2009). The Council used the distribution of landings from 1999 through 2003 to determine the existing allocations.

In Amendment 53, the Council would adjust the commercial and recreational sector allocations based on a unique allocation formula (“split reduction method”) that also accounts for the revisions to the calibrated recreational landings estimates from the MRIP FES. This method would implement the reductions in total harvest needed to achieve the new total ACL proportionally for each sector, based upon the distribution of landings under more recent time periods that the Council determined better reflect the way the fishery is currently operating. The Council chose the 5-year average of commercial and recreational (FES) landings from 2015 through 2019, and split the reduction needed to achieve the new reduced ACL in 2023 proportionally among the sectors. Then in each subsequent year throughout the rebuilding plan, as the ACL increases, the ACL poundage increase is allocated equally between both sectors and added to each sector's respective ACL from the previous year. The proposed adjustments would result in allocation percentages of 49 percent commercial and 51 percent recreational for 2023 through 2026. Each year thereafter would be a 50 percent commercial and 50 percent recreational allocation.

The Council determined that the preferred sector allocation method in Amendment 53 more fairly deals with the initial reduction in landings that results from the updated catch levels, and reduces the proportion of each sector's allowable catch based on recent landings so that the effect on each sector is more equitable. Similarly, the Council noted that the new allocations would achieve a balance between the needs of both sectors and also increase each sector's allowable catch proportionately on a poundage basis throughout the rebuilding plan. The Council determined that the new method distributes both overfishing restrictions and recovery benefits for gag fairly and equitably among both sectors. Thus, the Council considers this allocation method to be fair and equitable to fishery participants in both the commercial and recreational sectors. In addition, this allocation method is also reasonably calculated to promote conservation, since it achieves OY while it remains within the boundaries of a total ACL that is based upon an ABC recommendation that would end overfishing and rebuild the stock, incorporating the best scientific information available.

The current commercial ACL for gag is 347,301 lb (157,533 kg) and was implemented through Amendment 16 to the FMP (74 FR 30964, July 29, 2009). The commercial ACLs in this proposed rule would be 85,326 lb (38,703 kg), for 2023; 128,096 (58,103 kg), for 2024; 171,687 (77,876 kg), for 2025; 215,051 (97,545 kg), for 2026; 259,823 (117,854 kg), for 2027; 306,400 (138,981 kg), for 2028; 353,220 (160,218 kg), for 2029; 397,555 (180,328 kg), for 2030; 437,390 (198,397 kg), for 2031; and 471,966 lb (214,080 kg), for 2032 and subsequent years.

The current recreational ACL for gag is 359,832 lb (172,807 kg) and was implemented through Amendment 16 to the FMP (74 FR 30964, July 29, 2009). The recreational ACLs in this proposed rule would be 90,306 lb (40,962 kg), for 2023; 133,075 lb (60,362 kg), for 2024; 176,665 lb (80,134 kg), for 2025; 220,030 lb (99,804 kg), for 2026; 264,802 lb (120,112 kg), for 2027; 311,378 lb (141,239 kg), for 2028; 358,199 lb (162,476 kg), for 2029; 402,533 (182,586 kg), for 2030; 442,368 lb (200,655 kg), for 2031; and 476,945 lb (216,339 kg), for 2032 and subsequent years.

Commercial Trip Limits

The final rule for Regulatory Amendment 14 to the FMP established the current commercial trip limit for gag of 1,000 lb (454 kg), until 75 percent of the commercial quota is met, at which time the commercial trip limit is reduced to 500 lb (227 kg) for the remainder of the fishing year or until the commercial quota is met (79 FR 66316, December 8, 2014). This proposed rule would modify the commercial trip limit for gag to be 300 lb (136 kg), without a trip limit reduction.

Under the proposed trip limit, the Council determined that commercial fishermen could retain a sufficient amount of gag over the longest amount of time during a fishing year, and that it would increase the likelihood of gag remaining open to commercial harvest and available to consumers for as long as possible during the year.

Recreational Vessel Limits for Gag and Black Grouper

This proposed rule would establish a private recreational vessel limit for gag and also a private recreational vessel limit for black grouper of two fish per vessel per day, not to exceed the daily bag limit of one fish per person per day, whichever is more restrictive. For for-hire recreational vessels, this proposed rule would establish a vessel limit for gag and also a vessel limit for black grouper of two fish per vessel per trip, not to exceed the daily bag limit of one fish per person per day, whichever is more restrictive.

There is currently no recreational vessel limit for gag or black grouper. The current recreational bag and possession limits for gag and black grouper in the South Atlantic, specified by Regulatory Amendment 22 to the FMP, are one fish per person per day within the three fish aggregate for grouper and tilefish, and no more than one of those fish may be a gag or a black grouper.

Given the substantial reduction in harvest needed to end overfishing immediately and to increase the likelihood of rebuilding the gag stock, the Council decided to establish recreational vessel limits for gag that would continue to allow recreational retention and help constrain harvest to the reduced recreational ACL. As previously mentioned, gag and black grouper are often misidentified by recreational fishermen. Because of these misidentification issues between the two species, coupled with the need to greatly reduce the harvest of gag to end overfishing and rebuild the stock, this proposed rule would also implement recreational vessel limits to help with harvest constraints for black grouper to indirectly benefit the gag portion of the snapper-grouper fishery.

This proposed rule would not alter the gag or black grouper recreational bag limits, which would remain one gag or one black grouper per person per day within the three fish aggregate for grouper and tilefish. This proposed rule would establish a per day gag and black grouper recreational vessel limit for the private angling component and a per trip gag and black grouper vessel limit for the charter vessel and headboat (for-hire) component. These separate vessel limits would be expected to constrain harvest for these two separate components of the recreational sector. Because for-hire vessels may take multiple trips in a single day, the Council determined that a per trip maximum vessel limit would ensure equal access for new customers on a second for-hire trip of the day by not requiring discarding of a gag or black grouper if one was previously caught and kept by a different customer on the first trip of a day.

Prohibition of Captain and Crew Bag Limit Retention for Gag and Black Grouper

The captain and crew on a for-hire vessel with a Federal for-hire snapper-grouper permit may currently retain the daily bag limit of gag or black grouper as is allowed for each for-hire passenger. This proposed rule would set the gag and black grouper bag limit for captain and crew on a for-hire vessel with a Federal for-hire snapper-grouper permit at zero. The Council determined that because of the need to constrain the harvest of gag to the reduced recreational catch levels and because of the misidentification issues previously discussed, continuing to allow captain and crew to retain a daily bag limit of gag or black grouper would increase the potential gag harvest by recreational for-hire anglers and would prevent necessary reductions in the harvest of gag from being achieved.

Recreational AMs

The current recreational AMs for gag were established through Amendment 34 to the FMP (81 FR 3731, January 22, 2016). The AM includes an in-season closure for the remainder of the fishing year if recreational landings reach or are projected to reach the recreational ACL, regardless of whether the stock is overfished. The recreational AM also includes post-season adjustments. If recreational landings exceed the recreational ACL, then during the following fishing year recreational landings will be monitored for a persistence in increased landings. Also, if the total ACL is exceeded and gag are overfished, the length of the recreational fishing season and the recreational ACL are reduced by the amount of the recreational ACL overage.

This proposed rule would revise the recreational AMs for gag. The current in-season closure AM would be retained and the post-season recreational AM would be revised. If recreational landings for gag exceed the recreational ACL, the length of the following year's recreational fishing season would be reduced by the amount necessary to prevent the recreational ACL from being exceeded. The proposed AM would remove the current potential duplicate AM application of a reduction in the recreational season length and an overage adjustment (payback) of the recreational ACL overage if the total ACL was exceeded. Under this proposed measure, the AM trigger would not be tied to the total ACL, but only to the recreational ACL. The proposed AM modification would ensure that overages in the recreational sector do not in turn affect the catch levels for the commercial sector. Any reduced recreational season length as a result of the recreational AM being implemented would apply to the recreational fishing season following the year of a recreational ACL overage. Additionally, under the proposed recreational AM, the length of the recreational season would not be reduced if the Regional Administrator determines, using the best scientific information available, that such is reduction is unnecessary. This proposed rule would not revise the commercial AMs because the Council determined that the current commercial AM remains sufficient to ensure commercial landings would not exceed either the current or revised commercial ACL.

Management Measures in Amendment 53 Not Codified by This Proposed Rule

In addition to the measures within this proposed rule, Amendment 53 would revise the OFL for gag and update other biological reference points. Amendment 53 would also establish a rebuilding plan, and revise the ABC, the OY, and the sector allocations for gag.

Rebuilding Plan for the South Atlantic Gag Stock

Amendment 53 would establish a 10-year rebuilding plan, which is the longest allowable rebuilding scenario (Tmax) allowed for the gag stock by the Magnuson-Stevens Act (16 U.S.C. 1854(e)(4)(A)). In addition, the Magnuson-Stevens Act National Standard 1 Guidelines state that if the stock is projected to rebuild in 10 years or less, then Tmax is 10 years (50 CFR 600.310(j)(3)(i)(B)(1)). The Council intends that their preferred choice of the 10-year timeframe for rebuilding in Amendment 53 beginning in 2023 would reduce the severity of the management measures and thus result in fewer short-term negative social and economic impacts on fishing communities.

ABC and Annual OY

The current OFL of 825,000 lb (374,214 kg) and ABC of 773,000 lb (350,627 kg) are inclusive of Coastal Household Telephone Survey (CHTS) estimates of private recreational and charter landings. The Council's SSC reviewed the latest stock assessment (SEDAR 71) and recommended new ABC levels as determined by SEDAR 71. The assessment and associated ABC recommendations incorporated the revised estimates for recreational catch and effort from the MRIP Access Point Angler Intercept Survey (APAIS) and the updated FES. MRIP began incorporating a new survey design for APAIS in 2013 and replaced the CHTS with FES in 2018. Prior to the implementation of MRIP in 2008, recreational landings estimates were generated using the Marine Recreational Fisheries Statistics Survey (MRFSS). As explained in Amendment 53, total recreational fishing effort estimates generated from MRIP FES are generally higher than both the MRFSS and MRIP CHTS estimates. This difference in estimates is because MRIP FES is designed to more accurately measure fishing activity, not because there was a sudden increase in fishing effort. The MRIP FES is considered a more reliable estimate of recreational effort by the Council's SSC, the Council, and NMFS, and is more robust compared to the MRIP CHTS method. The new ABC recommendations within Amendment 53 also represent the best scientific information available as determined by the SSC.

The Council chose to specify OY for gag on an annual basis and set it equal to the ABC and total ACL, in accordance with the guidance provided in the Magnuson-Stevens Act National Standard 1 Guidelines at 50 CFR 600.310(f)(4)(iv).

Classification

Pursuant to section 304(b)(1)(A) of the Magnuson-Stevens Act, the NMFS Assistant Administrator has determined that this proposed rule is consistent with Amendment 53, the FMP, other provisions of the Magnuson-Stevens Act, and other applicable law, subject to further consideration after public comment.

This proposed rule has been determined to be not significant for purposes of Executive Order 12866.

An initial regulatory flexibility analysis (IRFA) was prepared, as required by section 603 of the Regulatory Flexibility Act (RFA; 5 U.S.C. 603). NMFS has determined that this IRFA is consistent with RFA requirements, subject to further consideration after public comment. The IRFA describes the economic impact this proposed rule, if adopted, would have on small entities. A description of the action, why it is being considered, and the legal basis for this action are contained in the SUMMARY and SUPPLEMENTARY INFORMATION sections of the preamble. A summary of the analysis follows. A copy of this analysis is available from NMFS (see ADDRESSES).

This proposed rule, if implemented, would: (1) revise the gag total ACL and sector ACLs, (2) reduce the commercial trip limit for gag, (3) revise the gag recreational bag, vessel, and possession limits, (4) revise the gag recreational AMs, and (5) for black grouper revise the recreational bag, vessel, and possession limits. Item (1), the gag total ACL and sector ACLs, would apply to all federally-permitted commercial vessels, federally-permitted charter vessels and headboats (for-hire vessels), and recreational anglers that fish for or harvest gag in federal waters of the South Atlantic. Item (2), the commercial trip limit for gag, would only apply to commercial vessels. Items (3), gag recreational bag, vessel, and possession limits; (4), gag recreational AMs; and (5), black grouper recreational bag, vessel, and possession limits, would only apply to for-hire vessels and recreational anglers. None of the proposed changes would directly apply to federally-permitted dealers. Any change in the supply of gag available for purchase by dealers as a result of this proposed rule, and associated economic effects, would be an indirect effect of the proposed regulatory action and would therefore fall outside the scope of the RFA.

Although most provisions of this proposed rule would apply to for-hire vessels, they would not be expected to have any direct effects on these entities. For-hire vessels sell fishing services to recreational anglers. The proposed changes to the gag catch limits and gag and black grouper management measures would not be expected to directly alter the services sold by these vessels. Any change in demand for these fishing services, and associated economic effects, as a result of this proposed rule would be a consequence of a change in anglers' behavior, secondary to any direct effect on anglers and, therefore, an indirect effect of the proposed rule. Based on the historically-minimal level of charter mode target effort for gag and black grouper in the South Atlantic, the low retention limit for these species, and the number of substitute species available, NMFS does not expect any change in for-hire trip demand to result from this proposed rule; however, should it occur, any such indirect effects would fall outside the scope of the RFA. For-hire captains and crew are currently allowed to retain gag and black grouper under the recreational bag limits; however, they are not allowed to sell these fish. As such, for-hire captains and crew are only affected as recreational anglers. The RFA does not consider recreational anglers to be entities, so they are also outside the scope of this analysis (5 U.S.C. 603). Small entities include small businesses, small organizations, and small governmental jurisdictions (5 U.S.C. 601(6) and 601(3)-(5)). Recreational anglers are not businesses, organizations, or governmental jurisdictions. In summary, only the impacts on commercial vessels will be discussed.

As of August 26, 2021, there were 579 valid or renewable South Atlantic Snapper-Grouper unlimited permits and 112 valid or renewable 225-lb (102.1 kg) trip-limited permits. On average from 2015 through 2019, there were 203 federally-permitted commercial vessels with reported landings of gag in the South Atlantic. Their average annual vessel-level gross revenue from all species for 2015 through 2019 was $67,722 (2021 dollars) and gag accounted for approximately 10 percent of this revenue. For commercial vessels that harvest gag in the South Atlantic, NMFS estimates that economic profits are $677 (2021 dollars) or 1 percent of annual gross revenue, on average. The maximum annual revenue from all species reported by a single one of the vessels that harvested gag from 2015 through 2019 was $638,709 (2021 dollars).

For RFA purposes only, NMFS has established a small business size standard for businesses, including their affiliates, whose primary industry is commercial fishing (see 50 CFR 200.2). A business primarily engaged in commercial fishing (North American Industry Classification System code 11411) is classified as a small business if it is independently owned and operated, is not dominant in its field of operation (including its affiliates), and has combined annual receipts not in excess of $11 million for all its affiliated operations worldwide. All of the commercial fishing businesses directly regulated by this proposed rule are believed to be small entities based on the NMFS size standard. No other small entities that would be directly affected by this proposed rule have been identified.

This proposed rule would revise the gag total ACLs based on the most recent recommendation from the SSC in response to the SEDAR 71 (2021) gag stock assessment. These catch limits would reflect a shift in recreational reporting units from the MRIP CHTS to the MRIP FES. The total ACL would be set equal to the ABC in each year of the rebuilding plan according to the values provided in Table 1. The 2032 total ACL values would remain in effect until changed by future Council action. Relative to the current commercial ACL of 347,301 lb (157,533 kg) and applying the current commercial sector allocation of 51 percent, the proposed changes to the gag catch limits would result in a decrease in the commercial ACL during 2023 and through 2028 and an increase thereafter, as shown in Table 1. However, as discussed below, this proposed rule would also modify the percentage of the total ACL that is allocated to the commercial sector, and therefore, estimated economic effects to small entities are considered as part of that discussion below.

Table 1—Proposed Total ACLs and Commercial ACLs, as Based on Current Allocation Percentages
Year | Total ACL in lb (kg) | Commercial ACL in lb (kg) | Difference between proposed and current commercial ACL in lb (kg)
2023 | 175,632 (79,665) | 89,572 (40,629) | −257,729 (−116,904)
2024 | 261,171 (118,465) | 133,197 (60,417) | −214,104 (−97,116)
2025 | 348,352 (158,010) | 177,660 (80,585) | −169,641 (−76,948)
2026 | 435,081 (197,349) | 221,891 (100,648) | −125,410 (−56,885)
2027 | 524,625 (237,966) | 267,559 (121,363) | −79,742 (−36,170)
2028 | 617,778 (280,219) | 315,067 (142,912) | −32,234 (−14,621)
2029 | 711,419 (322,694) | 362,824 (164,574) | 15,523 (7,041)
2030 | 800,088 (362,914) | 408,045 (185,086) | 60,744 (27,553)
2031 | 879,758 (399,052) | 448,677 (203,516) | 101,376 (45,983)
2032+ | 948,911 (430,419) | 483,945 (219,514) | 136,644 (61,981)

This proposed rule would set gag sector allocations and sector ACLs in 2023 proportional to each sector's share of total average landings (commercial and recreational combined) from 2015 through 2019. In subsequent years, as the total ACL increases, the total ACL poundage increase would be split equally between both sectors and added to each sector's ACL from the previous year. As a result, the allocation percentages would gradually shift over time. The 2032 values would remain in effect unless changed by future management action. As shown in Table 2, the combined economic effects of the proposed total ACLs in conjunction with the proposed revisions to the commercial allocation and ACLs, are estimated to be negative from 2023 through 2028 and positive thereafter. These estimates assume the full commercial ACL is harvested each year. Dividing the change in economic profits for each year shown in Table 2 by the average number of vessels with reported landings of gag from 2015 through 2019, the estimated annual change in economic profits per vessel would range from −$84 (a 12 percent loss per vessel) in 2023 (2021 dollars) to $40 (a 6 percent increase per vessel) in 2032. These estimated economic effects would be changing over time, and the time value of money concept suggests money earned sooner is more valuable than money earned later because of its earning potential. Therefore, when calculating an average annual effect, it is important to discount the future stream of benefits and costs back to present time to account for an assumed rate of return on capital. The net present value (NPV) of the estimated stream of changes in ex-vessel revenue over a 10 year period (2023 through 2032), using a 3 percent discount rate, is −$4.2 million (2021 dollars) and the annualized NPV during that period would be −$490,415. The average annualized NPV of changes in ex-vessel revenue and economic profits per vessel would be −$2,416 and −$24, respectively. Individual fishing businesses, however, may experience varying levels of economic effects, depending on their fishing practices, operating characteristics, and profit maximization strategies.

Table 2—Proposed Commercial Allocation, With Changes in Commercial ACL, Ex-Vessel Revenue, and Economic Profits Relative to the Status Quo Commercial ACL of 347,301 lb (157,533 kg)
Year | Commercial allocation | Commercial ACL in lb (kg) | Change in lb (kg) relative to no action | Change in ex-vessel revenue relative to no action (2021 dollars) | Change in economic profits (2021 dollars)
2023 | 0.49 | 85,326 (38,703) | −261,975 (−118,830) | −$1,705,457 | −$17,055
2024 | 0.49 | 128,096 (58,103) | −219,205 (−99,430) | −1,427,025 | −14,270
2025 | 0.49 | 171,687 (77,876) | −175,614 (−79,657) | −1,143,247 | −11,432
2026 | 0.49 | 215,051 (97,545) | −132,250 (−59,988) | −860,948 | −8,609
2027 | 0.50 | 259,823 (117,854) | −87,478 (−39,679) | −569,482 | −5,695
2028 | 0.50 | 306,400 (138,981) | −40,901 (−18,552) | −266,266 | −2,663
2029 | 0.50 | 353,220 (160,218) | 5,919 (2,685) | 38,533 | 385
2030 | 0.50 | 397,555 (180,328) | 50,254 (22,795) | 327,154 | 3,272
2031 | 0.50 | 437,390 (198,397) | 90,089 (40,864) | 586,479 | 5,865
2032+ | 0.50 | 471,966 (214,080) | 124,665 (56,547) | 811,569 | 8,116

In addition to the changes mentioned above, this proposed rule would reduce the gag commercial trip limit to 300 lb (136 kg). Under the status quo commercial ACL, this would be expected to reduce commercial gag landings by 20 percent or 46,333 lb (21,016 kg) per year. This reduction in landings would represent an estimated annual loss of $301,630 (2021 dollars) in ex-vessel revenue and $3,016 in economic profits to the commercial sector. However, the trip limit would be modified in conjunction with the revised commercial ACL (Table 2) and NMFS expects the commercial sector to fully harvest the revised commercial ACL, even with the reduced commercial trip limit, at least in the beginning years (2023-2025) of the rebuilding plan. Therefore, these economic effects would initially be subsumed under those described for the proposed ACLs and allocations (Table 2). In later years (2026-2032), the reduced trip limit may prevent the full harvest of the commercial ACL, thereby reducing the economic benefits associated with the increasing ACLs; however, landings rates for later years are more uncertain. In general, reducing the commercial trip limit, even if aggregate landings remain the same, may reduce the economic efficiency of individual trips which, in turn, may have negative consequences on economic profits. These effects cannot be quantified with existing data.

Three alternatives were considered for the action to revise the ABC, based on the SSC's latest recommendations, and set the total ACL and annual OY equal to it. The first alternative, the no action alternative, would retain the existing ABC of 773,000 lb (350,627 kg). Under this alternative, the total ACL and annual OY would remain equivalent to 95 percent of the current ABC or 734,350 lb (333,096 kg). Because no changes would be made to the current catch limits, the first alternative would not be expected to change fishing practices or commercial harvests of gag, nor would it be expected to result in direct economic effects. This alternative was not selected by the Council because it would be inconsistent with their SSCs' latest catch limit recommendations and the transition to the MRIP FES, and therefore, would not be based on the best scientific information available.

The second alternative to the proposed action to revise the ABC, ACL and annual OY would adopt the revised ABCs recommended by the SSC; however, it would set both the total ACL and annual OY equal to 95 percent of the ABC. The change in pounds between the total and commercial ACLs under this alternative relative to the proposed action, along with the expected change in ex-vessel revenue are provided in Table 3. Relative to the proposed total ACLs and assuming no change to the current sector allocations, this alternative would reduce the commercial ACL by a range of 4,479 lb (2,032 kg) in 2023 to 24,197 lb (10,976 kg) in 2032 and subsequent years (Table 3). Assuming the commercial ACL would be harvested in full under either the proposed action or the second alternative, this translates to a loss in ex-vessel revenue of $29,156 to $157,524 (2021 dollars) and a loss in economic profits equal to 1 percent of that or $292 to $1,575. The NPV of the estimated stream of changes in ex-vessel revenue over a 10 year period (2023 through 2032) relative to the proposed commercial ACLs, using a 3 percent discount rate, is −$777,295 (2021 dollars) and the annualized NPV during that period would be −$91,123. The average annualized NPV of changes in ex-vessel revenue and economic profits per vessel (assuming 203 affected vessels) would be −$449 and −$4, respectively. The Council did not select the second alternative because they determined it would be less effective at achieving the objectives of the FMP and that the current ACL monitoring mechanisms in the South Atlantic, coupled with the existing and proposed management measures, would be sufficient at preventing overages, thus not requiring a buffer between the ABC and total ACL.

Table 3—Differences in Total ACL, Commercial ACL, and Ex-Vessel Revenue Under the Second Alternative to the Proposed Action To Revise the ABC, ACL, and Annual OY
Year | Proposed total ACL in lb (kg) | Total ACL under alternative 2 in lb (kg) | Difference in total ACL in lb (kg) | Difference in commercial ACL in lb (kg) using current allocation of 51 percent | Change in potential ex-vessel revenue (2021 dollars)
2023 | 175,632 (79,665) | 166,850 (75,682) | −8,782 (−3,983) | −4,479 (−2,032) | −$29,156
2024 | 261,171 (118,465) | 248,112 (112,542) | −13,059 (−5,923) | −6,660 (−3,021) | −43,356
2025 | 348,352 (158,010) | 330,934 (150,109) | −17,418 (−7,901) | −8,883 (−4,029) | −57,828
2026 | 435,081 (197,349) | 413,327 (187,482) | −21,754 (−9,867) | −11,095 (−5,033) | −72,226
2027 | 524,625 (237,966) | 498,394 (226,068) | −26,231 (−11,898) | −13,378 (−6,068) | −87,090
2028 | 617,778 (280,219) | 586,889 (266,208) | −30,889 (−14,011) | −15,753 (−7,145) | −102,554
2029 | 711,419 (322,694) | 675,848 (306,559) | −35,571 (−16,135) | −18,141 (−8,229) | −118,099
2030 | 800,088 (362,914) | 760,084 (344,768) | −40,004 (−18,146) | −20,402 (−9,254) | −132,819
2031 | 879,758 (399,052) | 835,770 (379,099) | −43,988 (−19,953) | −22,434 (−10,176) | −146,044
2032+ | 948,911 (430,419) | 901,465 (408,898) | −47,446 (−21,521) | −24,197 (−10,976) | −157,524

The third alternative to the proposed action to revise the ABC, ACL and annual OY would adopt the revised ABCs recommended by the SSC; however, it would set both the total ACL and annual OY equal to 90 percent of the ABC. The change in pounds between the total and commercial ACLs under this alternative relative to the proposed action, along with the expected change in ex-vessel revenue are provided in Table 4. Relative to the proposed total ACLs and assuming no change to the current sector allocations, this alternative would reduce the commercial ACL by a range of 8,957 lb (4,063 kg) in 2023 to 48,394 lb (21,951 kg) in 2032 and subsequent years (Table 4). Assuming the commercial ACL would be harvested in full under either the proposed action or the third alternative, this translates to a loss in ex-vessel revenue of $58,312 to $315,048 (2021 dollars) and a loss in economic profits equal to 1 percent of that or $583 to $3,150. The NPV of the estimated stream of changes in ex-vessel revenue over a 10 year period (2023 through 2032) relative to the proposed commercial ACLs, using a 3 percent discount rate, is −$1.6 million (2021 dollars) and the annualized NPV during that period would be −$182,245. The average annualized NPV of changes in ex-vessel revenue and economic profits per vessel (assuming 203 affected vessels) would be −$898 and −$9, respectively. The Council did not select the third alternative because they determined it would be less effective at achieving the objectives of the FMP and that the current monitoring mechanisms in the South Atlantic, coupled with the existing and proposed management measures, would be sufficient at preventing overages, thus not requiring a buffer between the ABC and total ACL.

Table 4—Differences in Total ACL, Commercial ACL, and Ex-Vessel Revenue Under the Third Alternative to the Proposed Action To Revise the ABC, ACL, and Annual OY
Year | Proposed total ACL in lb (kg) | Total ACL under Alternative 3 in lb (kg) | Difference in total ACL in lb (kg) | Difference in commercial ACL in lb (kg) using current allocation of 51 percent | Change in potential ex-vessel revenue (2021 dollars)
2023 | 175,632 (79,665) | 158,069 (71,699) | −17,563 (−7,966) | −8,957 (−4,063) | −$58,312
2024 | 261,171 (118,465) | 235,054 (106,619) | −26,117 (−11,846) | −13,320 (−6,042) | −86,711
2025 | 348,352 (158,010) | 313,517 (142,209) | −34,835 (−15,801) | −17,766 (−8,059) | −115,656
2026 | 435,081 (197,349) | 391,573 (177,615) | −43,508 (−19,735) | −22,189 (−10,065) | −144,451
2027 | 524,625 (237,966) | 472,163 (214,170) | −52,463 (−23,797) | −26,756 (−12,136) | −174,181
2028 | 617,778 (280,219) | 556,000 (252,197) | −61,778 (−28,022) | −31,507 (−14,291) | −205,108
2029 | 711,419 (322,694) | 640,277 (290,425) | −71,142 (−32,269) | −36,282 (−16,457) | −236,198
2030 | 800,088 (362,914) | 720,079 (326,622) | −80,009 (−36,291) | −40,804 (−18,508) | −265,637
2031 | 879,758 (399,052) | 791,782 (359,146) | −87,976 (−39,905) | −44,868 (−20,352) | −292,088
2032+ | 948,911 (430,419) | 854,020 (387,377) | −94,891 (−43,042) | −48,394 (−21,951) | −315,048

Four alternatives were considered for the proposed action to revise the gag sector allocations and sector ACLs. The first alternative, the no action alternative, would retain the current commercial and recreational sector allocations as 51 percent and 49 percent, respectively, of the revised total ACL for gag. Relative to the proposed allocation, this alternative, when applied to the proposed total ACLs in Table 1, would result in an increase in ex-vessel revenue that ranges from $27,641 ($136 per vessel) in 2023 to $77,983 ($384 per vessel) in 2032 (Table 5). The NPV of the estimated stream of changes in ex-vessel revenue over a 10 year period (2023 through 2032) relative to the proposed allocation, using a 3 percent discount rate, is $443,067 (2021 dollars) and the annualized NPV during that period would be $51,941. The average annualized NPV of changes in ex-vessel revenue and economic profits per vessel (assuming 203 affected vessels) would be $256 and $3, respectively. The Council did not select the first alternative because they determined other proposed alternatives provided allocation methods that incorporated more recent landings and were therefore a better representation of the gag portion of the snapper-grouper fishery moving forward. These allocation methods also provided better fairness and equity between the sectors.

Table 5—Comparison of Commercial Allocation, Commercial ACL, and Ex-Vessel Revenue Under the First Alternative to the Proposed Allocation
Year | Proposed commercial allocation | Alternative 1 to proposed allocation | Commercial ACL in lb (kg) under alternative 1 allocation | Change in commercial ACL in lb (kg) under alternative 1 allocation | Change in potential ex-vessel revenue (2021 dollars)
2023 | 0.49 | 0.51 | 89,572 (40,629) | 4,246 (1,926) | $27,641
2024 | 0.49 | 0.51 | 133,197 (60,417) | 5,101 (2,314) | 33,208
2025 | 0.49 | 0.51 | 177,660 (80,585) | 5,973 (2,709) | 38,884
2026 | 0.49 | 0.51 | 221,891 (100,648) | 6,840 (3,103) | 44,528
2027 | 0.50 | 0.51 | 267,559 (121,363) | 7,736 (3,509) | 50,361
2028 | 0.50 | 0.51 | 315,067 (142,912) | 8,667 (3,931) | 56,422
2029 | 0.50 | 0.51 | 362,824 (164,574) | 9,604 (4,356) | 62,522
2030 | 0.50 | 0.51 | 408,045 (185,086) | 10,490 (4,758) | 68,290
2031 | 0.50 | 0.51 | 448,677 (203,516) | 11,287 (5,120) | 73,478
2032+ | 0.50 | 0.51 | 483,945 (219,514) | 11,979 (5,434) | 77,983

The second alternative to the proposed allocation would use the distribution of landings from 1999 through 2003 to set the commercial and recreational sector allocations at 36.37 percent and 63.63 percent, respectively, of the revised total ACL for gag. Relative to the proposed allocation, this alternative, when applied to the proposed total ACLs, would result in a decrease in ex-vessel revenue that ranges from $139,631 ($688 per vessel) in 2023 to $825,774 ($4,068 per vessel) in 2032 (Table 6). The NPV of the estimated stream of changes in ex-vessel revenue over a 10 year period (2023 through 2032) relative to the proposed allocation, using a 3 percent discount rate, is −$4.02 million (2021 dollars) and the annualized NPV during that period would be −$470,854. The average annualized NPV of changes in ex-vessel revenue and economic profits per vessel (assuming 203 affected vessels) would be −$2,319 and −$23, respectively. The Council did not select the second alternative because they determined other alternatives provided allocation methods that incorporated more recent landings and were therefore a better representation of the gag portion of the snapper-grouper fishery moving forward. These allocation methods also provided better fairness and equity between the sectors.

Table 6—Comparison of Commercial Allocation, Commercial ACL, and Ex-Vessel Revenue Under the Second Alternative to the Proposed Allocation
Year | Proposed commercial allocation | Alternative 2 to proposed allocation | Commercial ACL in lb (kg) under alternative 2 allocation | Change in commercial ACL in lb (kg) under alternative 2 allocation | Change in potential ex-vessel revenue (2021 dollars)
2023 | 0.49 | 0.3637 | 63,877 (28,974) | −21,449 (−9,729) | −$139,631
2024 | 0.49 | 0.3637 | 94,988 (43,086) | −33,108 (−15,018) | −215,534
2025 | 0.49 | 0.3637 | 126,696 (57,468) | −44,991 (−20,408) | −292,894
2026 | 0.49 | 0.3637 | 158,239 (71,776) | −56,812 (−25,769) | −369,846
2027 | 0.50 | 0.3637 | 190,806 (86,548) | −69,017 (−31,306) | −449,300
2028 | 0.50 | 0.3637 | 224,686 (101,916) | −81,714 (−37,065) | −531,959
2029 | 0.50 | 0.3637 | 258,743 (117,364) | −94,477 (−42,854) | −615,045
2030 | 0.50 | 0.3637 | 290,992 (131,992) | −106,563 (−48,336) | −693,725
2031 | 0.50 | 0.3637 | 319,968 (145,135) | −117,422 (−53,262) | −764,417
2032+ | 0.50 | 0.3637 | 345,119 (156,543) | −126,847 (−57,537) | −825,774

The third alternative to the proposed allocation would set the commercial and recreational sector allocations as 43.06 percent and 56.94 percent, respectively, of the revised total ACL for gag. These allocations would be based on historical landings information that are equally-weighted for the periods of 1986 through 2008 and 2006 through 2008. Relative to the proposed allocation, this alternative, when applied to the proposed total ACLs, would result in a decrease in ex-vessel revenue that ranges from $63,140 ($311 per vessel) in 2023 to $412,506 ($2,032 per vessel) in 2032 (Table 7). The NPV of the estimated stream of changes in ex-vessel revenue over a 10 year period (2023 through 2032) relative to the proposed allocation, using a 3 percent discount rate, is −$1.98 million (2021 dollars) and the annualized NPV during that period would be −$231,791. The average annualized NPV of changes in ex-vessel revenue and economic profits per vessel (assuming 203 affected vessels) would be −$1,142 and −$11, respectively. This allocation method uses the allocation formula often used for unassessed stocks, and while this method has been used for some assessed stocks, the Council decided that the years used in this allocation formula would not be the most representative of the gag portion of the snapper-grouper fishery moving forward.

Table 7—Comparison of Commercial Allocation, Commercial ACL, and Ex-Vessel Revenue Under the Third Alternative to the Proposed Allocation
Year | Proposed commercial allocation | Alternative 3 to proposed allocation | Commercial ACL in lb (kg) under alternative 3 allocation | Change in commercial ACL in lb (kg) under alternative 3 allocation | Change in potential ex-vessel revenue (2021 dollars)
2023 | 0.49 | 0.4306 | 75,627 (34,304) | −9,699 (−4,399) | −$63,140
2024 | 0.49 | 0.4306 | 112,460 (51,011) | −15,636 (−7,092) | −101,789
2025 | 0.49 | 0.4306 | 150,000 (68,039) | −21,687 (−9,837) | −141,180
2026 | 0.49 | 0.4306 | 187,346 (84,979) | −27,705 (−12,567) | −180,360
2027 | 0.50 | 0.4306 | 225,904 (102,468) | −33,919 (−15,385) | −220,816
2028 | 0.50 | 0.4306 | 266,015 (120,662) | −40,385 (−18,318) | −262,905
2029 | 0.50 | 0.4306 | 306,337 (138,952) | −46,883 (−21,266) | −305,208
2030 | 0.50 | 0.4306 | 344,518 (156,271) | −53,037 (−24,057) | −345,272
2031 | 0.50 | 0.4306 | 378,824 (171,832) | −58,566 (−26,565) | −381,266
2032+ | 0.50 | 0.4306 | 408,601 (185,338) | −63,365 (−28,742) | −412,506

The fourth alternative to the proposed allocation would set gag sector allocations and sector ACLs in 2023 proportional to each sector's share of total average landings (commercial and recreational combined) from 2017 through 2019. In subsequent years, as the total ACL increases, the total ACL poundage increase would be split equally between both sectors and added to each sector's ACL from the previous year. This, in effect, would gradually shift the allocation percentages. The 2032 values would remain in effect unless changed by future management action. Relative to the proposed allocation, this alternative, when applied to the proposed total ACLs, would result in an annual decrease in ex-vessel revenue of approximately $110,969 ($547 per vessel) (Table 8). The NPV of the estimated stream of changes in ex-vessel revenue over a 10 year period (2023 through 2032) relative to the proposed allocation, using a 3 percent discount rate, is −$946,558 (2021 dollars) and the annualized NPV during that period would be −$110,965. The average annualized NPV of changes in ex-vessel revenue and economic profits per vessel (assuming 203 affected vessels) would be −$547 and −$5, respectively. The Council did not select the fourth alternative because they decided the years of average landings used in this method did not best represent the gag portion of the snapper-grouper fishery.

Table 8—Comparison of Commercial Allocation, Commercial ACL, and Ex-Vessel Revenue Under the Fourth Alternative to the Proposed Allocation
Year | Proposed commercial allocation | Alternative 4 to proposed allocation | Commercial ACL in lb (kg) under alternative 4 allocation | Change in commercial ACL in lb (kg) under alternative 4 allocation | Change in potential ex-vessel revenue (2021 dollars)
2023 | 0.49 | 0.39 | 68,281 (30,972) | −17,045 (−7,731) | −$110,963
2024 | 0.49 | 0.43 | 111,051 (50,372) | −17,045 (−7,731) | −110,963
2025 | 0.49 | 0.44 | 154,641 (70,144) | −17,046 (−7,732) | −110,969
2026 | 0.49 | 0.46 | 198,006 (89,814) | −17,045 (−7,731) | −110,963
2027 | 0.50 | 0.46 | 242,778 (110,122) | −17,045 (−7,731) | −110,963
2028 | 0.50 | 0.47 | 289,354 (131,249) | −17,046 (−7,732) | −110,969
2029 | 0.50 | 0.47 | 336,175 (152,486) | −17,045 (−7,731) | −110,963
2030 | 0.50 | 0.48 | 380,509 (172,596) | −17,046 (−7,732) | −110,969
2031 | 0.50 | 0.48 | 420,344 (190,665) | −17,046 (−7,732) | −110,969
2032+ | 0.50 | 0.48 | 454,921 (206,349) | −17,045 (−7,731) | −110,963

Five alternatives were considered for the proposed action to reduce the commercial trip limit to 300 lb (136 kg). The first alternative, the no action alternative, would retain the current trip limit, which is 1,000 lb (454 kg) until 75 percent of the commercial ACL is met and then 500 lb (227 kg) for the remainder of the fishing year or until the commercial ACL is met. Therefore, it would not be expected to change fishing practices or commercial harvests of gag, nor would it be expected to result in direct economic effects. This alternative was not selected by the Council because it would likely result in a short fishing season and limited availability of gag for seafood consumers. Additionally, the Council did not think that the commercial trip limit step-down would be able to be effectively implemented in a timely manner, particularly in the first several years of the rebuilding plan.

The second alternative to the proposed commercial trip limit of 300 lb (136 kg) would set the commercial trip limit at 200 lb (91 kg). Under the status quo commercial ACL, this would be expected to reduce commercial gag landings by 32 percent or 74,133 lb (33,626 kg) per year. Relative to the proposed commercial trip limit, this alternative would result in an estimated annual reduction in ex-vessel revenue that is $180,978 (2021 dollars) greater and an annual reduction in economic profits that is $1,810 greater. However, because the trip limit would be modified in conjunction with the revised commercial ACL (Table 2) and NMFS expects the commercial sector to fully harvest the revised ACL even with a 200 lb (91 kg) commercial trip limit, at least in the beginning years of the rebuilding plan, these economic effects would initially be subsumed under those described for the proposed commercial ACLs and allocations. In later years, the lower trip limit may prevent the full harvest of the commercial ACL, thereby reducing the economic benefits associated with the increasing commercial ACLs; however, landings rates for later years are more uncertain and these effects cannot be quantified with existing data. In general, a lower commercial trip limit may reduce economic efficiency on trips, which may lead to a reduction in economic profits. This alternative was not selected by the Council because a 200 lb (91 kg) trip limit would make trips to catch gag too costly and inefficient.

The third alternative to the proposed commercial trip limit action would set the commercial trip limit at 400 lb (181 kg). Under the status quo commercial ACL, this would be expected to reduce commercial gag landings by 13 percent or 30,117 lb (13,661 kg) per year. Relative to the proposed commercial trip limit, this alternative would result in an estimated annual reduction in ex-vessel revenue that is $105,571 (2021 dollars) less and an annual reduction in economic profits that is $1,056 less. However, because the trip limit would be modified in conjunction with the revised commercial ACL (Table 2) and NMFS expects the commercial sector to fully harvest the revised ACL even with the reduced commercial trip limit, at least in the beginning years of the rebuilding plan, these economic effects would initially be subsumed under those described for the proposed commercial ACLs and allocations. In later years, a higher trip limit may lead to better utilization of the ACL and greater economic efficiency, thereby increasing the economic benefits associated with the increasing commercial ACLs. However, landings rates for later years are more uncertain and these effects cannot be quantified with existing data. This alternative was not selected by the Council because it would not constrain harvest to ensure the longest commercial season possible under the proposed reduced catch levels.

The fourth alternative to the proposed commercial trip limit action would set the commercial trip limit at 500 lb (227 kg). Under the status quo commercial ACL, this would be expected to reduce commercial gag landings by 8 percent or 18,533 lb (8,406 kg) per year. Relative to the proposed commercial trip limit, this alternative would result in an estimated annual reduction in ex-vessel revenue that is $180,978 less and an annual reduction in economic profits that is $1,810 less. However, because the trip limit would be modified in conjunction with the revised commercial ACL (Table 2) and because NMFS expects the commercial sector to fully harvest the revised ACL even with the reduced commercial trip limit, at least in the beginning years of the rebuilding plan, these economic effects would initially be subsumed under those described for the proposed commercial ACLs and allocations. In later years, the higher trip limit may lead to better utilization of the ACL and greater economic efficiency, thereby increasing the economic benefits associated with the increasing commercial ACLs. However, landings rates for later years are more uncertain and these effects cannot be quantified with existing data. This alternative was not selected by the Council because it would not constrain harvest to ensure the longest commercial season possible under the proposed reduced catch levels.

The fifth and final alternative to the proposed commercial trip limit action would reduce the gag commercial trip limit to 300 lb (136 kg) in 2023 then increase the commercial trip limit to 500 lb (227 kg) in 2026 and to 1,000 lb (454 kg) in 2027 and subsequent years. In 2023 through 2025, the commercial trip limit under this alternative would be the same as the proposed commercial trip limit and therefore would have equivalent economic effects during those years. In 2026, the trip limit would be set 200 lb (91 kg) greater than the proposed trip limit and in 2027, and subsequent years it would be 700 lb (318 kg) greater than the proposed trip limit. These incremental increases may allow for greater utilization of the proposed commercial ACLs and greater economic efficiency, leading to potential increases in economic profits; however, the economic effects cannot be quantified with available data given uncertainty in future commercial landings rates. This alternative was not selected by the Council because it would increase the trip limit in the years specified, regardless of rebuilding success and could have negative long-term effects for the fishery. The Council decided that if it was appropriate to increase the commercial trip limit for gag in the future, this could be done through a framework action to the FMP after data on rebuilding are provided.

No duplicative, overlapping, or conflicting Federal rules have been identified. In addition, no new reporting, record-keeping, or other compliance requirements are introduced by this proposed rule. This proposed rule contains no information collection requirements under the Paperwork Reduction Act of 1995.

List of Subjects in 50 CFR Part 622

Accountability measures, Annual catch limits, Black grouper, Commercial, Fisheries, Fishing, Gag, Recreational, South Atlantic.

Dated: July 6, 2023.
Samuel D. Rauch, III,
Deputy Assistant Administrator for Regulatory Programs, National Marine Fisheries Service.

For the reasons set out in the preamble, NMFS proposes to amend 50 CFR part 622 as follows:

PART 622—FISHERIES OF THE CARIBBEAN, GULF OF MEXICO, AND SOUTH ATLANTIC

1. The authority citation for part 622 continues to read as follows:

Authority: 16 U.S.C. 1801 et seq.

2. In § 622.187, revise paragraph (b)(2)(i) to read as follows:

§ 622.187 Bag and possession limits.

* * * * *

(b) * * *

(2) * * *

(i) No more than one fish may be gag or black grouper, combined. However, no gag or black grouper may be retained by the captain or crew of a vessel operating as a charter vessel or headboat. The bag limit for such captain and crew is zero;

(A) In addition to the bag limits specified in paragraph (b)(2)(i) of this section, for gag, the vessel limit for a vessel operating as a private recreational vessel may not exceed 2 fish per vessel per day.

(B) In addition to the bag limits specified in paragraph (b)(2)(i) of this section, for gag, the vessel limit for a vessel operating as a charter vessel or headboat may not exceed 2 fish per vessel per trip.

(C) In addition to the bag limits specified in paragraph (b)(2)(i) of this section, for black grouper, the vessel limit for a vessel operating as a private recreational vessel may not exceed 2 fish per vessel per day.

(D) In addition to the bag limits specified in paragraph (b)(2)(i) of this section, for black grouper, the vessel limit for a vessel operating as a charter vessel or headboat may not exceed 2 fish per vessel per trip.

* * * * *

3. In § 622.190, revise (a) introductory text and paragraph (a)(7) to read as follows:

§ 622.190 Quotas.

* * * * *

(a) South Atlantic snapper-grouper, excluding wreckfish. The quotas apply to persons who are not subject to the bag limits. (See § 622.11 for applicability of the bag limits.) The quotas are in gutted weight, that is eviscerated but otherwise whole, except for the quotas in paragraphs (a)(4) through (6) of this section which are in both gutted weight and round weight.

* * * * *

(7) Gag.

(i) For the 2023 fishing year—85,326 lb (38,703 kg).

(ii) For the 2024 fishing year—128,096 lb (58,103 kg).

(iii) For the 2025 fishing year—171,687 lb (77,876 kg).

(iv) For the 2026 fishing year—215,051 lb (97,545 kg).

(v) For the 2027 fishing year—259,823 lb (117,854 kg).

(vi) For the 2028 fishing year—306,400 lb (138,981 kg).

(vii) For the 2029 fishing year—353,220 lb (160,218 kg).

(viii) For the 2030 fishing year—397,555 lb (180,328 kg).

(ix) For the 2031 fishing year—437,390 lb (198,397 kg).

(x) For the 2032 and subsequent fishing years—471,966 lb (214,080 kg).

* * * * *

4. In § 622.191, revise paragraph (a)(7) to read as follows:

§ 622.191 Commercial trip limits.

* * * * *

(a) * * *

(7) Gag. Until the applicable commercial quota specified § 622.190(a)(7) is reached—300 lb (136 kg), gutted weight. See § 622.190(c)(1) for the limitations regarding gag after the commercial quota is reached.

* * * * *

5. In § 622.193, revise paragraph (c) to read as follows:

§ 622.193 Annual catch limits (ACLs), annual catch targets (ACTs), and accountability measures (AMs).

* * * * *

(c) Gag—

(1) Commercial sector.

(i) If commercial landings for gag, as estimated by the SRD, reach or are projected to reach the commercial ACL (commercial quota) specified in § 622.190(a)(7), the AA will file a notification with the Office of the Federal Register to close the commercial sector for gag for the remainder of the fishing year. Applicable restrictions after a commercial quota closure are specified in § 622.190(c).

(ii) If the commercial landings for gag, as estimated by the SRD, exceed the commercial ACL specified in § 622.190(a)(7), and the combined commercial and recreational ACL specified in paragraph (c)(3) of this section, is exceeded during the same fishing year, and gag are overfished based on the most recent Status of U.S. Fisheries Report to Congress, the AA will file a notification with the Office of the Federal Register to reduce the commercial ACL for that following fishing year by the amount of the commercial ACL overage in the prior fishing year.

(2) Recreational sector. (i) If recreational landings for gag, as estimated by the SRD, reach or are projected to reach the recreational ACL, the AA will file a notification with the Office of the Federal Register to close the recreational sector for the remainder of the fishing year regardless if the stock is overfished, unless NMFS determines that no closure is necessary based on the best scientific information available. On and after the effective date of such notification, the bag and possession limits for gag in or from the South Atlantic EEZ are zero. The recreational ACL for gag is 90,306 lb (40,962 kg), gutted weight, for 2023; 133,075 lb (60,362 kg), gutted weight, for 2024; 176,665 lb (80,134 kg), gutted weight, for 2025; 220,030 lb (99,804 kg), gutted weight, for 2026; 264,802 lb (120,112 kg), gutted weight, for 2027; 311,378 lb (141,239 kg), gutted weight, for 2028; 358,199 lb (162,476 kg), gutted weight, for 2029; 402,533 lb (182,586 kg), gutted weight, for 2030; 442,368 lb (200,655 kg), gutted weight, for 2031; 476,945 lb (216,339 kg), gutted weight, for 2032 and subsequent years.

(ii) If recreational landings, as estimated by the SRD, exceed the recreational ACL specified in paragraph (c)(2)(i) of this section, then during the following fishing year, the AA will file a notification with the Office of the Federal Register to reduce the length of the recreational fishing season by the amount necessary to prevent the recreational ACL from being exceeded. NMFS will use the best scientific information available to determine if reducing the length of the recreational fishing season is necessary. When the recreational sector is closed as a result of NMFS reducing the length of the recreational fishing season, the bag and possession limits for gag in or from the South Atlantic EEZ are zero.

(3) Combined commercial and recreational ACL. The combined commercial and recreational ACL for gag is 175,632 lb (79,665 kg), gutted weight, for 2023; 261,171 lb (118,465 kg), gutted weight, for 2024; 348,352 lb (158,010 kg), gutted weight, for 2025; 435,081 lb (192,349 kg), gutted weight, for 2026; 524,625 lb (237,965 kg), gutted weight, for 2027; 617,778 lb (280,219 kg), gutted weight, for 2028; 711,419 lb (322,694 kg), gutted weight, for 2029; 800,088 lb (362,914 kg), gutted weight, for 2030; 879,758 lb (399,052 kg), gutted weight, for 2031; 948,911 lb (430,419 kg), gutted weight, for 2032 and subsequent years.

* * * * *

[FR Doc. 2023-14620 Filed 7-12-23; 8:45 am]

BILLING CODE 3510-22-P